DEPARTMENT OF ENERGY

Federal Energy Regulatory Commission

[Docket No. RP00-514-003]

Southern Natural Gas Company; Notice of Compliance Filing

July 19, 2001.

Take notice that on July 12, 2001, Southern Natural Gas Company (Southern), tendered for filing as part of its FERC Gas Tariff, Seventh Revised Volume No. 1, the following tariff sheets, to become effective October 1, 2001:

Substitute First Revised Sheet No. 101A

2nd Substitute Original Sheet No. 101B

2nd Substitute 1st Revised Sheet No. 102

2nd Substitute Original Sheet No. 102A

Substitute Third Revised Sheet No. 116

Southern states that the purpose of the filing is to comply with the Commission's order dated July 2, 2001 in the above-referenced docket. Such order required Southern to make a compliance filing (i) to eliminate Southern's ability to award requests as they come in and to require Southern to award available firm capacity under an open season process; (ii) to specify the number of days that Southern will take to evaluate bids made in an open season; and (iii) to clarify that any pending Primary Receipt Point amendments will be awarded first on a first-come, first-served basis before any awards of Receipt Point capacity may be awarded for the applicable Receipt Point in an open season. Southern has stated that it will award the winning bidder within 14 business days of the close of the open season.

Southern has also clarified that it must have an open season if it receives in writing any requests for available firm capacity, unless the request is for capacity that has already been offered in an open season and the request is lower than the reserve price established in the open season. In addition, Southern has stated that it will post available firm capacity under Section 284.13(d) as it becomes available.

Southern has requested that these sheets be made effective as of October 1, 2000 consistent with the Commission's July 2nd Order.

Southern states that copies of the filing will be served upon its shippers and interested state commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-18498 Filed 7-24-01; 8:45 am]

BILLING CODE 6717-01-P